OFFICE OF SCIENCE AND TECHNOLOGY POLICY

Request for Information; Equitable Data Engagement and Accountability

AGENCY: Office of Science and Technology Policy (OSTP).

ACTION: Notice of request for information (RFI).

SUMMARY: The White House Office of Science and Technology Policy (OSTP), on behalf of the Subcommittee on Equitable Data of the National Science and Technology Council, requests information on how Federal agencies can better support collaboration with other levels of government, civil society, and the research community around the production and use of equitable data. This RFI will support Federal equitable data efforts described in the Executive Order on Advancing Racial Equity and Support for Underserved Communities Through the Federal Government (E.O. 13985), including the Vision for Equitable Data issued to the President in April 2022.

DATES: Interested persons and organizations are invited to submit comments on or before 5 p.m. ET, October 3, 2022.

ADDRESSES: You may submit comments by any of the following methods:

• Email: equitabledata@ostp.eop.gov, include Engagement and Accountability RFI in the subject line of the message. Email submissions should be machine-readable [PDF, Word] and should not be copy-protected.

• Mail: Attn: NSTC Subcommittee on Equitable Data, Office of Science and Technology Policy, Eisenhower Executive Office Building, 1650 Pennsylvania Ave. NW, Washington, DC 20504.

Instructions: Response to this RFI is voluntary. Respondents may answer as many or as few questions as they wish. Each individual or institution is requested to submit only one response. Electronic responses must be provided as attachments to an email rather than a link. Please identify your answers by responding to a specific question or topic if possible. Comments of seven pages or fewer (3,500 words) are requested; longer responses will not be considered. Responses should include the name of the person(s) or organization(s) filing the response. Responses containing references, studies, research, and other empirical data that are not widely published should include copies of or electronic links to the referenced materials. Responses containing profanity, vulgarity, threats, or other inappropriate language or content will not be considered.

Any information obtained from this RFI is intended to be used by the Government on a non-attribution basis for planning and strategy development. OSTP will not respond to individual submissions. A response to this RFI will not be viewed as a binding commitment to develop or pursue the project or ideas discussed. This RFI is not accepting applications for financial assistance or financial incentives.

Comments submitted in response to this notice are subject to the Freedom of Information Act (FOIA). No business proprietary information, copyrighted information, or personally identifiable information should be submitted in response to this RFI. Please be aware that comments submitted in response to this RFI, including the submitter's identification (as noted above), may be posted, without change, on OSTP's or another Federal website or otherwise released publicly.

FOR FURTHER INFORMATION CONTACT: Denice Ross, U.S. Chief Data Scientist, at equitabledata@ostp.eop.gov or 202-456-6121.

SUPPLEMENTARY INFORMATION: As part of the President's Executive Order on Advancing Racial Equity and Support for Underserved Communities Through the Federal Government (E.O. 13985), the Administration convened a Federal Equitable Data Working Group to study existing Federal data collection policies, programs, and infrastructure to identify inadequacies and provide recommendations that lay out a strategy for increasing data available for measuring equity and representing the diversity of the American people.

In its final report in April 2022—Vision for Equitable Data—the Equitable Data Working Group emphasized the need for the Federal government to use equitable data to (1) encourage diverse collaborations across levels of government, civil society, and the research community and (2) be accountable to the American public. By equitable data, we mean data that allow for rigorous assessment of the extent to which government programs and policies yield consistently fair, just, and impartial treatment of all individuals, including those who have been historically underserved, marginalized, and adversely affected by persistent poverty and inequality. Equitable data can illuminate opportunities for targeted actions that will result in demonstrably improved outcomes for underserved communities. One key characteristic of equitable data is that it is disaggregated by demographic information (e.g., race, ethnicity, gender, language spoken, etc.), geographic information (e.g., rural/urban), or other variables, enabling insights on disparities in access to, and outcomes from, government programs, policies, and services.

Durable, equitable data infrastructure requires fostering collaborations across all levels of government, as well as with a diverse community of external organizations to advance outcomes for underserved communities. Constructing such infrastructure will likely require new incentives and pathways, including to ensure greater data sharing and capacity building across different levels of government and to broaden the research community involved in producing and analyzing equitable data.

Furthermore, providing tools that allow civil society organizations and communities to use and visualize Federal data and chart government's progress toward equitable outcomes is crucial for strengthening accountability and credibility with the American public. Such tools can encourage community participation in government equity efforts, but these tools must be designed and administered in ways that meet community members where they are in terms of data analysis capacity and resources. These tools should ideally enable members of the public to easily find meaningful and actionable data about the well-being of their communities and the services provided to them.

In this notice, the White House OSTP is providing an opportunity for members of the public to provide perspectives on how to best to encourage collaborations between the Federal government and (a) state, local, territorial, and Tribal governments; (b) researchers and research institutions; and (c) local communities that facilitate producing, accessing, and using equitable data.

Responses to this Request for Information (RFI) will be used to inform the development of case studies, best practices, and new strategies for Federal agencies, including establishing:

(1) mutually beneficial collaborations between Federal agencies and other levels of government, civil society, and the research community around the production and use of equitable data, and

(2) tools that allow civil society organizations and communities to use and visualize Federal data and chart government's progress toward equitable outcomes in order to strengthen accountability and credibility.

Responses to this RFI will also inform development of the United States' Open Government Partnership National Action Plan that furthers the principles of open government.

We invite members of the public to share perspectives on how the Federal government can better realize the objectives of collaboration between all levels of government, engagement of communities that access or participate in Federal programs in data collection and research, and create broader public access to equitable data. Responses may help inform the development of case studies, best practices, strategies, plans, and other tools for Federal agencies to pursue equitable data partnerships and collaboration, including Federal government plans around open government.

OSTP seeks responses to one, some, or all of the following questions:

1. What are examples of successful collaborations involving equitable data between the Federal government and (a) Tribal, territorial, local, and State governments, or (b) local communities?

2. Among examples of existing Federal collaborations with (a) Tribal, territorial, local, and State governments or (b) local communities involving equitable data, what lessons or best practices have been learned from such collaborations?

3. What resources, programs, training, or other tools can facilitate increased data sharing between different levels of government (Tribal, territorial, local, State, or Federal) related to equitable data?

4. What resources, programs, training, or other tools can expand opportunities for historically underrepresented scholars and research institutions to access and use equitable data across levels of government?

5. What resources, programs, training, or tools can increase opportunities for community-based organizations to use equitable data to hold government accountable to the American public?

6. What resources, programs, training, or tools can make equitable data more accessible and useable for members of the public?

7. In which agencies, programs, regions, or communities are there unmet needs, broken processes, or problems related to participation and accountability that could be remedied through stronger collaborations and transparency around equitable data?

Dated: August 30, 2022.
Stacy Murphy,
Operations Manager.

[FR Doc. 2022-19007 Filed 9-1-22; 8:45 am]

BILLING CODE 3270-F2-P